FEDERAL COMMUNICATIONS COMMISSION

[CG Docket No. 03-123; FCC 06-67]

Notice of Certification of Snap Telecommunications, Inc. as a Provider of Video Relay Service (VRS) Eligible for Compensation From the Interstate Telecommunications Relay Service (TRS) Fund

AGENCY: Federal Communications Commission.

ACTION: Notice.

SUMMARY: In this document, the Commission grants Snap Telecommunications, Inc. (Snap) certification as a VRS provider eligible for compensation from the Interstate TRS Fund. The Commission concludes that Snap has demonstrated that its provision of VRS will meet or exceed all operational, technical, and functional TRS standards set forth in the Commission's rules; that it makes available adequate procedures and remedies for ensuring compliance with applicable Commission rules; and that to the extent Snap's service differs from the mandatory minimum standards, the service does not violate the rules.

DATES: Effective May 8, 2006.

ADDRESSES: Federal Communications Commission, 445 12th Street, SW., Washington DC 20554.

FURTHER INFORMATION CONTACT: Gregory Hlibok, Consumer & Governmental Affairs Bureau, Disability Rights Office at (202) 418-0431 (TTY), or e-mail at Gregory.Hlibok@fcc.gov.

SUPPLEMENTARY INFORMATION: This is a summary of the Commission's document FCC 06-67, released May 8, 2006, addressing an application for certification filed by Snap Telecommunications, Inc. on January 25, 2006. On May 9, 2006, the Commission released an Erratum to document FCC 06-67. See Notice of Certification of Snap Telecommunications, Inc. as a Provider of Video Relay Service (VRS) Eligible for Compensation from the Interstate Telecommunications Relay Service (TRS) Fund, Erratum, in CG Docket No. 03-123, the full text of document FCC 06-67, the Erratum, and copies of any subsequently filed documents in this matter will be available for public inspection and copying during regular business hours at the FCC Reference Information Center, Portals II, 445 12th Street, SW., Room CY-A257, Washington, DC 20554. Document FCC 06-67, the Erratum, and copies of subsequently filed documents in this matter may also be purchased from the Commission's duplicating contractor at Portals II, 445 12th Street, SW., Room CY-B402, Washington, DC 20554. Customers may contact the Commission's duplicating contractor at its Web site http://www.bcpiweb.com or by calling 1-800-378-3160. To request materials in accessible formats for people with disabilities (Braille, large print, electronic files, audio format), send an e-mail to fcc504@fcc.gov or call the Consumer & Governmental Affairs Bureau at (202) 418-0530 (voice), (202) 418-0432 (TTY). Document FCC 06-67 and the Erratum can also be downloaded in Word or Portable Document Format (PDF) at: http://www.fcc.gov/cgb/dro.

Synopsis

On January 25, 2006, Snap Telecommunications, Inc. (Snap) filed an application for certification, (Snap Telecommunications, Inc., VRS Certification Application of Snap Telecommunications, Inc., CG Docket No. 03-123 (January 25, 2006)) as a VRS provider eligible for compensation from the Interstate TRS Fund (Fund) pursuant to the recently adopted VRS and Internet Protocol (IP) Relay provider certification rules. See Telecommunications Relay Services for Individuals with Hearing and Speech Disabilities, Report and Order and Order on Reconsideration, CG Docket No. 03-123, FCC 05-203 (December 12, 2005); published at 70 FR 76208, December 23, 2005 (2005 VRS Provider Order); 47 CFR 64.605(a)(2) of the Commission's rules. Prior to the 2005 VRS Provider Order, an entity desiring to offer TRS and receive compensation from the Fund had to meet one of the three eligibility standards set forth in 47 CFR 64.604(c)(5)(iii)(F) of the Commission's rules. Snap's application is granted, subject to the conditions noted below.

On December 12, 2005, the Commission released an order adopting new rules permitting carriers desiring to offer VRS and receive payment from the Fund to seek certification as a provider eligible for compensation from the Fund. 2005 VRS Provider Order, supra. The rules require entities seeking such certification to submit documentation to the Commission setting forth, in narrative form:

(i) a description of the forms of TRS to be provided (i.e., VRS and/or IP Relay); (ii) a description of how the provider will meet all non-waived mandatory minimum standards applicable to each form of TRS offered; (iii) a description of the provider's procedures for ensuring compliance with all applicable TRS rules; (iv) a description of the provider's complaint procedures; (v) a narrative describing any areas in which the provider's service will differ from the applicable mandatory minimum standards; (vi) a narrative establishing that services that differ from the mandatory minimum standards do not violate applicable mandatory minimum standards; (vii) demonstration of status as a common carrier; and (viii) a statement that the provider will file annual compliance reports demonstrating continued compliance with these rules. 47 CFR 64.605(a)(2) of the Commission's rules.

The rules further provide that after review of the submitted documentation, the Commission shall certify that the VRS provider is eligible for compensation from the Fund if the Commission determines that the certification documentation:

(i) establishes that the provision of VRS * * * will meet or exceed all non-waived operational, technical, and functional minimum standards contained in § 64.604 of the Commission's rules; (ii) establishes that the VRS * * * provider makes available adequate procedures and remedies for ensuring compliance with the requirements of this section and the mandatory minimum standards contained in § 64.604 of the Commission's rules, including that it makes available for TRS users informational materials on complaint procedures sufficient for users to know the proper procedures for filing complaints; and (iii) where the TRS service differs from the mandatory minimum standards contained in § 64.604 of the Commission's rules, the VRS * * * provider establishes that its service does not violate applicable mandatory minimum standards. 47 CFR 64.605(b)(2) of the Commission's rules.

The Commission has reviewed Snap's application pursuant to these rules. The Commission concludes that Snap has demonstrated that its provision of VRS service will meet or exceed all operational, technical, and functional TRS standards set forth in 47 CFR 64.604 of the Commission's rules; that it makes available adequate procedures and remedies for ensuring compliance with applicable Commission rules; and that to the extent Snap's service differs from the mandatory minimum standards, the service does not violate the rules. See, e.g., Snap Application at 14 (noting that Snap will offer picture caller ID).

The Commission also notes, however, that Snap indicates that it plans to offer service only via a particular Internet protocol that, without translation, is not interoperable with videophone devices employed by other VRS providers. See generally Snap Application at 6 (noting the H.323 and SIP Internet standards); Snap ex parte letter, CG Docket No. 03-123 (filed March 31, 2006); Snap ex parte letter, CG Docket No. 03-123 (filed March 22, 2006). The Commission notes that it has adopted a declaratory ruling requiring the interoperability of VRS equipment and services. See Telecommunications Relay Services for Individuals with Hearing and Speech Disabilities, CG Docket No. 03-123, Declaratory Ruling and Further Notice of Proposed Rulemaking, FCC 06-57 (adopted May 3, 2006) (addressing California Coalition of Agencies Serving the Deaf and Hard of Hearing (CCASDHH), Petition for Declaratory Ruling on Interoperability, CC Docket No. 98-67, CG Docket No. 03-123, DA 05-509 (filed February 15, 2005)). The Commission conditions this grant of certification upon compliance with that order. See also 47 CFR 64.605(e)(2) of the Commission's rules (Commission may require certified providers to submit documentation demonstrating compliance with the mandatory minimum standards). Further, Snap must file an annual report with the Commission evidencing that they are in compliance with § 64.604 of the Commission's rules. See 47 CFR 64.605(g) of the Commission's rules. The first such report shall be due one year after May 8, 2006, and subsequent reports shall be due each year thereafter.

This certification, as conditioned herein, shall remain in effect for a period of five years from the release date of May 8, 2006. See 47 CFR 64.605(c)(2) of the Commission's rules. Within ninety days prior to the expiration of this certification, Snap may apply for renewal of its VRS service certification by filing documentation in accordance with the Commission's rules. See 47 CFR 64.605(c)(2) of the Commission's rules.

Federal Communications Commission.
Marlene H. Dortch,
Secretary.

[FR Doc. 06-4729 Filed 5-23-06; 8:45 am]

BILLING CODE 6712-01-P